DEPARTMENT OF THE INTERIOR

Office of American Indian Trust

Agency Information Collection Activities Under OMB Review

AGENCY: Office of American Indian Trust, Interior.

ACTION: Notice.

SUMMARY: In compliance with the Paperwork Reduction Act, this notice announces that the Information Collection Request (ICR) abstracted below has been forwarded to the Office of Management and Budget (OMB) for review and renewal.

DATES: Comment must be received on or before June 3, 2002.

ADDRESSES: Comments should be sent to: Document Library, Room 10102, Attn: Desk Officer for the Department of the Interior, Office of Information and Regulatory Affairs, Office of Management and Budget, 725 17th Street NW., Washington, DC 20503. Copies of any comments should be sent to: Director, Office of American Indian Trust, United States Department of the Interior, 1849 C Street, NW., Room 2472, Washington, DC 20240.

FOR FURTHER INFORMATION CONTACT: James I. Pace, (202) 208-3338.

SUPPLEMENTARY INFORMATION: The Department of the Interior invites comments by the public on: Whether the validity of the methodology and assumptions used; ways to enhance the quality, usefulness, and clarity of the information to be collected; and minimizing the burden of collection on those who are to respond. The Information Collection Request describes the nature of the information collection and its expected cost and burden. OMB has up to 60 days to approve or disapprove this information collection but may respond after 30 days; therefore, public comments submitted to OMB closer to 30 days will have more chance for review. An Agency may not conduct or sponsor, and a person is not required to respond to a collection of information unless it displays a currently valid OMB control number. The OMB control number for this collection is 1076-0146. The Federal Register Notice with a 60-day comment period soliciting comments on this collection of information was published on February 14, 2002 (67 FR 6941). There were no comments received.

Title: Evaluation of the Performance of Trust Functions Performed by Tribes under Self-Governance Compacts, 25 CFR part 1000, subpart O (OMB Control No. 1076-0146). This is a request for an extension of a currently approved information collection.

Abstract: This collection of information will be made to ensure compliance with 25 U.S.C. 458cc(d) which requires that the Secretary of the Interior monitor the performance of trust functions which have been assumed under Self-Governance funding agreements negotiated between the Secretary and an Indian Tribe/Consortia (hereinafter the respondent).

This information collection addresses those statutory and regulatory performance requirements imposed upon the respondent through the assumption of a particular trust function, through a formal Self-Governance agreement pursuant to the Self-Governance Act (Pub. L. 103-413) which, if not performed properly, may create imminent jeopardy to a trust asset. The information will be used by the Department of the Interior to determine if there is imminent jeopardy to any asset held in trust by the United States for an Indian Tribe or individual Indian that are being managed by a Tribe/Consortium on behalf of the United States pursuant to a Self-Governance agreement.

Burden Statement: There is no preliminary work nor is any follow-up work required of the respondents. There are no forms to complete. The annual hour burden is calculated by the amount of time that the reviewer spends at each program site interviewing the respondents and collecting file information. Currently there are 70 respondents. The time required ranges from 4 person/hours to 80 person/hours. Based on the size and complexity of the current programs, the average hours spent for each annual evaluation is estimated at 24 person/hours. 70 × 24 = 1,680 total burden hours per year for the collection of information.

Dated: April 18, 2002.
Neal A. McCaleb,
Assistant Secretary—Indian Affairs.

[FR Doc. 02-10802 Filed 5-1-02; 8:45 am]

BILLING CODE 4310-E8-P